DEPARTMENT OF AGRICULTURE

Forest Service

Commercial Pack Stock Use Authorizations for the Ansel Adams and John Muir Wildernesses; Inyo and Sierra National Forests; Inyo, Fresno, Madera, and Mono Counties, CA

AGENCY: Forest Service, USDA.

ACTION: Revised notice of intent to prepare an environmental impact statement.

SUMMARY: The USDA Forest Service published a notice of intent to prepare an environmental impact statement (EIS) for the Commercial Pack Stock Use Authorizations for the Ansel Adams and John Muir Wildernesses Project in the Federal Register on June 15, 2004 (Volume 69, Number 114, pages 33346-33348). A revised notice of intent is being issued for several reasons. A Trail Management Plan for the Ansel Adams and John Muir Wildernesses, previously under analysis in a separate environmental document, has been combined into this project. The Dinkey Lakes portion of the Trail Management Plan will be conducted in a future analysis. To incorporate the Trail Management Plan, the Purpose and Need and Proposed Action for the project have been revised only to reflect the combination of the two proposals into one. This is described in more detail below.

In addition, the decision to be made reflects a change that this proposal will only amend the Ansel Adams and John Muir portions of the 2001 Wilderness Management Plan. No commercial pack stock use will be authorized under this proposal. Finally, the name of the project has been changed to better describe the proposed action and is now “Trail and Commercial Pack Stock Management in the Ansel Adams and John Muir Wildernesses.”

DATES: Comments concerning the scope of the analysis and revised notice of intent should be received within 30 days following the publication of this notice in Federal Register. Comments previously submitted for the scoping of the proposed action as described in the June 15, 2004, Federal Register are part of the project record and will be considered in the Draft EIS. There is no need for these comments, or comments made to the Trail Management Plan to be resubmitted as the proposed actions have not changed, just combined into one proposal.

A draft environmental impact statement is expected to be filed with the Environmental Protection Agency (EPA) and available for public review in April 2005. At that time the EPA will publish a Notice of Availability in the Federal Register. The comment period on the draft EIS will be 45 days from the date the EPA published the Notice of Availability. The final EIS is scheduled to be completed in December 2005.

ADDRESSES: Send written comments to Forest Supervisor, Attention: Wilderness Planning, Inyo National Forest, 351 Pacu Lane, Suite 200, Bishop, CA 93514. Comments may be sent electronically to comments-pacificsouthwest-inyo@fs.fed.us.

FOR FURTHER INFORMATION CONTACT: Mary Beth Hennessy, Wilderness Specialist, Inyo National Forest, 351 Pacu Lane, Suite 200, Bishop, CA 93514, (760) 873-2448.

SUPPLEMENTARY INFORMATION: To better reflect the purpose and need for the project, the name of the project has been changed to “Trail and Commercial Pack Stock Management in the Ansel Adams and John Muir Wildernesses.” Publication of the Draft and Final Environmental Impact Statements will be under this name.

Comments previously submitted for the scoping of the proposed action for this project as described in the June 15, 2004, Federal Register are part of the project record and will be considered in the Draft EIS. Comments previously submitted for the Trail Management Plan Environmental Assessment Proposed Action are also a part of the record and will be considered in the Draft EIS. There is not a need for these comments to be resubmitted.

Nature of Decision to Be Made: The decision to be made is whether or not to continue commercial pack stock operations in the John Muir and Ansel Adams Wildernesses and, if so, to determine the amount, type, and locations where these activities would occur. The decision will also establish a Trail Management Plan for both wildernesses which determines the trails that will be maintained on the Forests' inventories and how they will be managed. This Trail Management Plan was originally under analysis in a separate proposal, but due to public comments and the apparent connected nature of the two proposals, the trail plan and commercial pack stock proposals were combined into a single analysis. The incorporation of the Trail Plan into the overall Wilderness planning effort will better disclose the cumulative effects of commercial pack stock use in the two wildernesses.

Purpose and Need for Action: These actions are needed for several reasons. While the Wilderness Act does contain provisions for commercial activities in wilderness areas, these activities are permitted “to the extent necessary for activities which are proper for realizing the recreational or other wilderness purposes of the areas.” There is a need, therefore, to clearly articulate the extent necessary, including the locations and the amount and type of use, that commercial pack stock is necessary in the Ansel Adams and John Muir Wildernesses. There is a need for limits on commercial pack stock operations in order to maintain desired resource and experiential conditions identified in the 2001 Wilderness Plan and Record of Decision. There is also a need for a trail management plan that establishes a system of trails that provides access to the Ansel Adams and John Muir Wildernesses and identifies the appropriate maintenance and management levels of the trail system such that the wilderness values are protected.

This proposal responds in part to the Court Order of November 1, 2001, (and modified January 10, 2002) which requires that the Forest Service complete a cumulative impacts analysis within the NEPA process, and that it consider limits on numbers of stock animals used in conjunction with commercial operators, limits on the group size (both people and number of stock both on and off trail), trail suitability for various use types, and designation of campsites for use by commercial pack stations.

Proposed Action: To meet the purpose and need, the Forest Service proposes to amend the 2001 Ansel Adams, John Muir, and Dinkey Lakes Wildernesses Management Plan to provide further standards and guidelines for commercial pack stock activities. The standards and guidelines proposed for modification from existing Wilderness Plan direction relate to use levels; trail suitability for commercial pack stock operations; grazing suitability and utilization levels; and, use of campsites and campfires. Currently, commercial pack stock use accounts for approximately 15% of total use in these two wildernesses, with around 3500 people a year being serviced to over 400 destinations. The proposed action will also establish a system of trails and trail management levels for each system trail, consistent with the desired condition of areas within the two wildernesses as identified in the 2001 Wilderness Plan and Record of Decision. Approximately 960 miles of trails are being proposed to be managed as a system trail.

Responsible Official: The responsible officials are Jeffrey E. Bailey, Forest Supervisor, Inyo National Forest, 351 Pacu Lane, Suite 200, Bishop, CA 93514 and Edward C. Cole, Forest Supervisor, Sierra National Forest, 1600 Tollhouse Road, Clovis, CA 93611.

Early Notice of Importance of Public Participation in Subsequent Environmental Review: The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)

Dated: January 18, 2005.
Jeffrey E. Bailey,
Forest Supervisor, Inyo National Forest.
Dated: January 13, 2005.
Edward C. Cole,
Forest Supervisor, Sierra National Forest.

[FR Doc. 05-1295 Filed 1-24-05; 8:45 am]

BILLING CODE 3410-11-P